DEPARTMENT OF ENERGY

Federal Energy Regulatory Commission

[Project No. 13613-000]

Coastal Hydropower, LLC; Notice of Competing Preliminary Permit Application Accepted for Filing and Soliciting Comments and Motions To Intervene

November 20, 2009.

On November 2, 2009, Coastal Hydropower, LLC, filed an application, pursuant to section 4(f) of the Federal Power Act, proposing to study the feasibility of the Menasha-Neenah Hydroelectric Project, to be located on the Fox River, in Winnebago County, Wisconsin. The proposed Menasha-Neenah Project would be located at the U.S. Army Corps of Engineers (Corps) Fox River Menasha Locks Dam near Menasha, Wisconsin and at the Neenah Paper Company's Neenah Dam near Neenah, Wisconsin.

Coastal Hydropower, LLC, permit application is filed in competition with Lock+TM Hydro Friends Fund XXVII, LLC's proposed Redd Foxx Hydroelectric Project No. 13533-000, which was publicly noticed September 4, 2009. The deadline for filing competing applications was November 4, 2009. Coastal Hydropower's competing permit application is timely filed.

The proposed project would consist of: (1) Modifying the fixed weir section of Menasha Locks Dam to incorporate eight very low head (VLH) turbine-generators with a total installed capacity of about 4 megawatts (MW); (2) a new 300-foot-long transmission line (TL) which would deliver power from the turbines at Menasha Locks Dam to a tie-in at an existing overhead 12.0 kilovolt (kV) TL owned by Menasha Public Works and located along Anhaip Street in Menasha, Wisconsin; (3) modifying the spillway of Neenah Dam to install four VLH turbine-generators with a total installed capacity of about 2 MW; (4) a new 700-foot-long TL, which would deliver power from the turbines at Neenah Dam to a tie-in with an existing underground 12.0 kV TL owned by We Energies located at W. Wisconsin Avenue in Neenah, Wisconsin; and (5) appurtenant facilities. The Menasha-Neenah Project would have an estimated average annual generation of about 31.5 gigawatt-hours, which would be sold to a local utility.

Applicant Contact: Mr. Neil Anderson, Coastal Hydropower, LLC, Key Centre, 601 108th Avenue, NE., Suite 1900, Bellevue, WA 98004, 452-943-7690.

FERC Contact: John Ramer, (202) 502-8969.

Deadline for filing comments and motions to intervene: 60 days from the issuance of this notice. Comments and motions to intervene may be filed electronically via the Internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project can be viewed or printed on the “eLibrary” link of the Commission's Web site at http://www.ferc.gov/docs-filing/elibrary.asp. Enter the docket number (P-13613) in the docket number field to access the document. For assistance, call toll-free 1-866-208-3372.

Kimberly D. Bose,
Secretary.

[FR Doc. E9-28390 Filed 11-25-09; 8:45 am]

BILLING CODE P